DEPARTMENT OF HOUSING AND URBAN DEVELOPMENT

[Docket No. FR-5750-N-46]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert E. Moriarty, P.E., AFCE/CI, 2261 Hughes Avenue, Ste. 155, JBSA Lackland, TX, 78236-9853, (210) 395-9503; COAST GUARD: Commandant, United States Coast Guard, Attn: Jennifer Stomber, 2100 Second St. SW., Stop 7901, Washington, DC 20593-0001; (202) 475-5609; COE: Ms. Brenda John-Turner, Army Corps of Engineers, Real Estate, HQUSACE/CEMP-CR, 441 G Street NW., Washington, DC 20314; (202) 761-5222; INTERIOR: Mr. Michael Wright, Acquisition & Property Management, Department of the Interior, 3960 N. 56th Ave. #104, Hollywood, FL 33021; (443) 223-4639; NASA: Mr. Frank T. Bellinger, Facilities Engineering Division, National Aeronautics & Space Administration, Code JX, Washington, DC 20546, (202) 358-1124; NAVY: Mr. Steve Matteo, Department of the Navy, Asset Management Division, Naval Facilities Engineering Command, Washington Navy Yard, 1330 Patterson Ave. SW., Suite 1000, Washington, DC 20374, (202) 685-9426; (These are not toll-free numbers).

Dated: November 6, 2014.
Brian P. Fitzmaurice,
Director, Division of Community Assistance, Office of Special Needs Assistance Programs.

TITLE V, FEDERAL SURPLUS PROPERTY PROGRAM FEDERAL REGISTER REPORT FOR 11/14/2014

Suitable/Available Properties

Building

Idaho

Building R0456032000B

3933 SV Hwy 26

Irwin ID 83428

Landholding Agency: Interior

Property Number: 61201440013

Status: Underutilized

Comments: off-site removal only; no future agency need; relocation may be difficult due to size/type; 385 sq. ft.; comfort station;57+ yrs.-old; fair conditions; leaky roof; mold; contact Interior for more info.

Massachusetts

3 Buildings

USCG Base Cape Cod

Bourne MA 02542

Landholding Agency: Coast Guard

Property Number: 88201440001

Status: Excess

Directions: 5206; 5412; 5386

Comments: off-site removal only; relocation may be difficult due to size/type; sq. ft. varies; housing; poor conditions; contact Coast Guard for more information.

Missouri

2 Restrooms

Mark Twain Lake Project Office

Monroe City MO 63456

Landholding Agency: COE

Property Number: 31201440007

Status: Underutilized

Comments: 62 & 72 sq. ft.; seasonal use; poor conditions; contact COE for more information.

Unsuitable Properties

Buildings

California

Buildings 2537, 2538, & 2540

6425 & 4790 B St./17430 Dolittle

Beale CA 95903

Landholding Agency: Air Force

Property Number: 18201440005

Status: Excess

Comments: public access denied and no alternative method to gain access w/out compromising national security.

Reasons: Secured Area

Building 1226

8464 Arnold

Beale CA 95903

Landholding Agency: Air Force

Property Number: 18201440006

Status: Unutilized

Comments: public access denied and no alternative method to gain access w/out compromising national security.

Reasons: Secured Area

Building 1152

Beale AFB

Beale CA 95903

Landholding Agency: Air Force

Property Number: 18201440007

Status: Unutilized

Comments: public access denied and no alternative method to gain access w/out compromising national security.

Reasons: Secured Area

6 Buildings

Wren & Tern Courts

Beale CA 95903

Landholding Agency: Air Force

Property Number: 18201440008

Status: Unutilized

Directions: 5109; 5110; 5111; 5112; 5113; 5116

Comments: public access denied and no alternative method to gain access w/out compromising national security.

Reasons: Secured Area

Security Station (#N253A)

700 R.T. Jones Rd.

Moffet Field CA 94035

Landholding Agency: NASA

Property Number: 71201440015

Status: Unutilized

Comments: public access denied and no alternative method to gain access w/out compromising national security.

Reasons: Secured Area

Missouri

U.S. Army Corps of Engineers,

St. Louis District

Wappapello Lake Project Office

Wappapello MO 63966

Landholding Agency: COE

Property Number: 31201440008

Status: Unutilized

Comments: entire property located in floodway where is has not been contained or corrected.

Reasons: Floodway

Virginia

Building 395

17320 Dahlgren Rd.

Dahlgren VA

Landholding Agency: Navy

Property Number: 77201440018

Status: Unutilized

Comments: public access denied and no alternative method to gain access w/out compromising national security.

Reasons: Secured Area

[FR Doc. 2014-26765 Filed 11-13-14; 8:45 am]

BILLING CODE 4210-67-P